EXPORT-IMPORT BANK

[Public Notice: EIB-2025-0016]

Application for Final Commitment for a Long-Term Loan or Financial Guarantee in Excess of $100 Million: AP099993XX

AGENCY: Export-Import Bank.

ACTION: Notice.

SUMMARY: This Notice is to inform the public the Export-Import Bank of the United States (“EXIM”) has received an application for final commitment for long-term loans or financial guarantees in excess of $100 million. Comments received within the comment period specified below will be presented to the EXIM Board of Directors prior to final action on these Transactions.

DATES: Comments must be received on or before September 22, 2025 to be assured of consideration before final consideration of the transactions by the Board of Directors of EXIM.

ADDRESSES: Comments may be submitted through Regulations.gov at www.regulations.gov. To submit a comment, enter EIB-2025-0016 under the heading “Enter Keyword or ID” and select Search. Follow the instructions provided at the Submit a Comment screen. Please include your name, company name (if any) and EIB-2025-0016 on any attached document.

SUPPLEMENTARY INFORMATION:

Reference: AP099993XX.

Purpose and Use: Brief description of the purpose of the transactions: to develop an open pit copper-gold mine as well as a processing plant, storage facilities, power generation, transportation infrastructure, and other related facilities needed to support the project.

Brief non-proprietary description of the anticipated use of the items being exported: to support the development of an open-pit copper gold mine and related facilities.

Parties:

Principal Supplier: Fluor, Irving, TX; Komatsu, Chicago, IL; Caterpillar, Irving, TX; Metso USA, Brookfield, WI; First Solar, Tempe, AZ; Wabtec, Pittsburgh, PA; International Trade & Transportation, Pinehurst, TX.

Obligor: Reko Diq Mining Company, Balochistan province, Pakistan.

Guarantor(s): n/a.

Description of Items Being Exported: Engineering, Procurement, and Construction Management services; mining trucks, feeders, grinders, and related equipment; trucks, crushers, graders, and other related machinery; solar panels, rail transportation equipment; and consultancy services.

Information on Decision: Information on the final decision for these transactions will be available in the “Summary Minutes of Meetings of Board of Directors” on http://exim.gov/newsandevents/boardmeetings/board/

Confidential Information: Please note that this notice does not include confidential or proprietary business information; information which, if disclosed, would violate the Trade Secrets Act; or information which would jeopardize jobs in the United States by supplying information that competitors could use to compete with companies in the United States.

Authority: Section 3(c)(10) of the Export-Import Bank Act of 1945, as amended (12 U.S.C. 635a(c)(10)).

Deidre Hodge,
Assistant Corporate Secretary.

[FR Doc. 2025-16406 Filed 8-26-25; 8:45 am]

BILLING CODE 6690-01-P